DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Quantum Engineering, Inc.

(Waiver Petition Docket Number FRA-2006-23751)

Quantum Engineering, Inc. (Quantum), seeks a waiver of compliance with the requirements of 49 CFR, 221.13(d), Rear End Marking Devices, published January 11, 1977, and 49 CFR, 232.403(g)(2), End-of Train Devices, published January 17, 2001. Specifically, § 221.13(d) requires: “The centroid of the marking device must be located at a minimum of 48 inches above the top of the rail.” And, § 232.403(g)(2) requires: “If power is supplied by one or more batteries, the operating life shall be a minimum of 36 hours at 0 °C.” Quantum seeks to reduce the specified battery capacity by eliminating one of the two batteries from their end-of-train device. According to Quantum, their end-of-train device includes both an air turbine powered alternator (which has been in service for several years), and two batteries. Both the batteries and the alternator are continuously connected to provide power to the device and by removing one of the two batteries, the weight of the device could be substantially reduced. The remaining battery, which is charged by the alternator during normal operations, would provide power for approximately 18 hours in cases where the alternator would not be able to function such as during switching operations when train line brake pressure is cut out. Quantum's test data indicates that the end-of-train device will operate for approximately 18 hours with only one battery after loss of train line air.

Quantum also seeks relief from the regulatory requirement that the centroid of the marking device be located at a minimum of 48 inches above the top of the rail. Quantum states that with the coupler attachment mechanism approximately 36 inches above the rail, the 48 inch regulatory requirement requires designing the device to be at least 12 inches higher than necessary and that 12 inches is marginal at best in providing greater sight distance but introduces a substantial mechanical moment in a high G force area promoting fatigue of components. A marker minimum height of 36 inches would allow the device to be more compact with a center of gravity closer to the coupler mounting mechanism and allow a further reduction in the weight of the device. Therefore, Quantum is requesting a waiver to allow a marker height at a minimum of 36 inches above the top of the rail.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2006-23751) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on February 14, 2006.
Grady C. Cothen, Jr.,
Deputy Associate Administrator for Safety Standards and Program Development.

[FR Doc. E6-2552 Filed 2-22-06; 8:45 am]

BILLING CODE 4910-06-P